NATIONAL SCIENCE FOUNDATION

Proposal Review Panel for Materials Research; Sunshine Act Meeting

In accordance with the Federal Advisory Committee Act (Pub. L. 92-463 as amended), the National Science Foundation announces the following meeting:

Name: Proposal Review Panel for Materials Research (1203).

Dates and Times: October 8, 2003—8 am-11 pm;, October 9, 2003—8 am-11 pm; October 10, 2003—8 am-1:30 pm.

Place: National High Magnetic Field Laboratory (NHMFL), Florida State University, Tallahassee, FL.

Type of Meeting: Part-open.

Contact Person: Dr. Hugh Van Horn, Director, National Facilities, Division of Materials Research, Room 1065, National Science Foundation, 4201 Wilson Boulevard, Arlington, VA 22230, Telephone (703) 292-4920, e-mail: hvanhorn@nsf.gov

Purpose of Meeting: To provide advice and recommendations concerning progress of the National High Magnetic Field Laboratory located at Florida State University, the University of Florida, and Los Alamos National Laboratory.

AGENDA:

Wednesday, October 8

8a-8:45a—Closed—Executive Session

8:50a-2p—Open—Subcommittee review of 900 MHz Magnet System

2p-11p—Closed—Executive Session, review and drafting of report

Thursday, October 9

8a-8:30a—Closed—Executive Session

8:30a-12n—Open—Overview of NHMFL

Review of User Programs

Review of Magnetic Resonances User Programs

Magnet Science & Technology Programs and Goals

12:00n-1p—Closed—Executive Session

1p-6:30p—Open—Educational Outreach & Public Awareness

Vision and Goals

Tour of NHMFL

Post Session

6:30p-11 p—Closed—Executive Session, review and drafting of report

Friday, October 10

Closed—Meetings with Institutional Representatives

Review and prepare site visit report

Reason for Late Notice: Due to unexpected delays and complications with the administrative processes.

Reason for Closing: The work being reviewed may include information of a proprietary or confidential nature, including technical information, financial data, such as salaries and personal information concerning individuals associated with the proposal. These matters are exempt under 5 U.S.C. 552b(c), (4) and (6) of the Government in the Sunshine Act.

Dated: September 24, 2003.
Susanne E. Bolton,
Committee Management Officer.

[FR Doc. 03-24529 Filed 9-24-03; 12:23 pm]

BILLING CODE 7555-01-M